DEPARTMENT OF COMMERCE

International Trade Administration

[A-549-813]

Canned Pineapple Fruit from Thailand: Preliminary Results of the Full Sunset Review of the Antidumping Duty Order

AGENCY: Import Administration, International Trade Administration, Department of Commerce.

SUMMARY: On April 3, 2006, the Department of Commerce (the “Department”) initiated a sunset review of the antidumping duty order on canned pineapple fruit (“CPF”) from Thailand pursuant to section 751(c) of the Tariff Act of 1930, as amended (the “Act”). On the basis of substantive responses filed by domestic and respondent interested parties, the Department determined to conduct a full sunset review. As a result of this review, the Department preliminarily finds that revocation of the antidumping duty order would likely lead to continuation or recurrence of dumping at the levels indicated in the Preliminary Results of Review section of this notice.

EFFECTIVE DATE: October 27, 2006.

FOR FURTHER INFORMATION CONTACT: Zev Primor, AD/CVD Operations, Office 4, Import Administration, International Trade Administration, U.S. Department of Commerce, 14th Street & Constitution Avenue, NW, Washington, DC 20230; telephone: (202) 482-4114.

SUPPLEMENTARY INFORMATION:

Background

On April 3, 2006, the Department published the notice of initiation of the second sunset review of the antidumping duty order on CPF from Thailand pursuant to section 751(c) of the Act. See Initiation of Five-year (“Sunset”) Reviews, 71 FR 16,551 (April 3, 2006). The Department received a notice of intent to participate from Maui Pineapple Co., Ltd., (“Maui”), within the deadline specified in 19 CFR § 351.218(d)(1)(i). Maui claimed interested party status under section 771(9)(C) of the Act, as a producer of a domestic-like product in the United States. We received a complete substantive response from Maui within the 30-day deadline specified in 19 CFR § 351.218(d)(3)(i). The Department also received a timely and complete substantive response from respondent interested parties, (The Thai Food Processors' Association, Thai Pineapple Canning Industry Corp., Ltd., (“TPC”), Malee Sampran Public Co., Ltd., (“Malee”), The Siam Agro Industry Pineapples and Others Public Co., Ltd., (“SAICO”), Great Oriental Food Products Co., Ltd., (“Great Oriental”), Thai Pineapple Products and Other Fruits Co., Ltd., (“THAICO”), The Tipco Foods (Thailand) PCL (“TIPCO”), Pranburi Hotei Co., Ltd., (“PHC”), and Siam Fruit Canning (1988) Co., Ltd., (“SIFCO”)), (collectively, the “Respondents”), within the applicable deadline specified in 19 CFR § 351.218(d)(3)(i). On May 12, 2006, the Department received rebuttal comments from Maui.

Section 351.218(e)(1)(ii)(A) of the Department's regulations provides that the Department normally will conclude that respondents have provided adequate response to a notice of initiation where the Department receives complete substantive responses from respondent interested parties accounting on average for more than 50 percent, by volume, or value, if appropriate, of the total exports of the subject merchandise to the United States over the five calender years preceding the year of publication of the notice of initiation.

On May 22, 2006, the Department issued an adequacy determination stating that the Respondents did not meet the adequacy requirements. See Memorandum from Zev Primor to Tom Futtner “Adequacy Determination in Antidumping Duty Sunset Review of Canned Pineapple from Thailand” (May 22, 2006). On May 30, 2006, and June 8, 2006, we received timely comments pertaining to our calculation methodology from the Respondents and Maui, respectively. Upon review of the parties' comments, we modified our calculation methodology and determined that the Respondents met the adequacy requirements. See Memorandum from Zev Primor to Tom Futtner “Correction to the Adequacy Calculation in the Antidumping Duty Sunset Review of Canned Pineapple Fruit from Thailand” (July 12, 2006). As a result, in accordance with 19 CFR § 351.218(e)(2)(i), the Department determined to conduct a full sunset review of this antidumping duty order.

On July 25, 2006, the Department determined that the sunset review of the antidumping duty order on CPF from Thailand is extraordinarily complicated and extended the time limit for completion of the final results of this review until not later than February 27, 2007, in accordance with section 751(c)(5)(B) of the Act. See Extension of Time Limits for Preliminary Results and Final Results of the Full Sunset Review of the Antidumping Duty Order on Canned Pineapple Fruit from Thailand, 71 FR 42,082 (July 25, 2006).

Scope of the Order

The product covered by this review is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, the written description of the scope is dispositive.

There have been no scope rulings for the subject order. There was one changed circumstances determination in which the Department affirmed that TIPCO is the successor-in-interest to the Thai Pineapple Public Co., Ltd. See Final Results of Antidumping Duty Changed Circumstances Review: Canned Pineapple Fruit from Thailand, 69 FR 36,058 (June 28, 2004)

Analysis of Comments Received

All issues raised in this review are addressed in the “Issues and Decision Memorandum for the Preliminary Results of the Full Sunset Review of the Antidumping Duty Order on Canned Pineapple Fruit from Thailand,” (the “Decision Memorandum”) from Stephen J. Claeys, Deputy Assistant Secretary for Import Administration, to David M. Spooner, Assistant Secretary for Import Administration, dated October 20, 2006, which is hereby adopted by this notice. The issues discussed in the Decision Memorandum include the likelihood of continuation or recurrence of dumping and the magnitude of the margins likely to prevail if the order were to be revoked. Parties can find a complete discussion of all issues raised in this review and the corresponding recommendations in the Decision Memorandum which is on file in room B-099 of the main Commerce building. In addition, a complete version of the Decision Memorandum can be viewed directly on the Web at http://ia.ita.doc.gov/frn/index.html. The paper copy and electronic version of the Decision Memorandum are identical in content.

Preliminary Results of Review

We preliminarily determine that revocation of the antidumping duty order on CPF from Thailand would be likely to lead to continuation or recurrence of dumping at the following weighted-average margins:

Manufacturers/Exporters/Producers | Weighted-Average Margin (percent)
SAICO | 51.16
Malee | 41.74
All Others | 24.64

This five-year (“sunset”) review and notice are in accordance with sections 751(c), 752, and 777(i)(1) of the Act. This notice serves as the preliminary reminder to parties subject to administrative protective order (“APO”) of their responsibility concerning the disposition of proprietary information disclosed under APO in accordance with 19 CFR § 351.305. Timely notification of return/destruction of APO materials or conversion to judicial protective order is hereby requested. Failure to comply with the regulations and the terms of an APO is a sanctionable violation.

Dated: October 20, 2006.
David M. Spooner,
Assistant Secretary for Import Administration.

[FR Doc. E6-18055 Filed 10-26-06; 8:45 am]

BILLING CODE 3510-DS-S